COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products and a service to the Procurement List that will be furnished by nonprofit agencies employing persons who are blind or have other severe disabilities, and deletes products previously furnished by such agencies.

DATES: Comments must be received on or before: 2/12/2017.

ADDRESSES: Committee for Purchase From People Who Are Blind or Severely Disabled, 1401 S. Clark Street, Suite 715, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN(s)—Product Name(s): 8920-00-SAM-0169—Super Cereal Plus

Mandatory Source(s) of Supply: Transylvania Vocational Services, Inc., Brevard, NC

Mandatory for: An additional 10% of the requirement of the U.S. Agency for International Development's World Food Program, as aggregated by the USDA Farm Service Agency, IPD Packaged, Kansas City, MO. Total requirement on the U.S. AbilityOne Commission Procurement List will be 30%.

Contracting Activity: USDA, Farm Service Agency, IPD Packaged

Distribution: C-List

NSN(s)—Product Name(s):

7510-00-NIB-0823—Tab, Self-Stick, Durable, 1″, Assorted Colors

7510-00-NIB-0824—Tabs, Self-Stick, Filing, Repositionable, 2″, Red/Yellow

7510-01-421-4751—Tabs, Self-Stick, Page Makers Repositionable, .5″ x 2″, Assorted Colors

Mandatory Source(s) of Supply: Association for the Blind and Visually Impaired—Goodwill Industries of Greater Rochester, Rochester, NY

Mandatory for: Total Government Requirement

Contracting Activity: General Services Administration, New York, NY

Distribution: A-List

NSN(s)—Product Name(s):

6530-00-NIB-0209—Hot Pack, Instant, Disposable, 6″ x 8″

6530-00-NIB-0217—Cold Pack, Instant, Disposable, 5″ x 6″

6530-00-NIB-0219—Cold Pack, Instant, Disposable, 5″ x 7″

6530-00-NIB-0221—Cold Pack, Instant, Disposable, 6″ x 8.75″

6530-00-NIB-0222—Hot Pack, Instant, Disposable, 5″ x 6″

6530-00-NIB-0223—Hot Pack, Instant, Disposable, 5″ x 7″

Mandatory Source(s) of Supply: Central Association for the Blind & Visually Impaired, Utica, NY

Mandatory for: Total Government Requirement

Contracting Activity: Defense Logistics Agency Troop Support

Distribution: B-List

NSN(s)—Product Name(s):

9905-00-NIB-0376—Flag, Marking, 2-½″ x 3-½″, 21″ Staff, Fluorescent Orange

9905-00-NIB-0377—Flag, Marking, 2-½″ x 3-½″, 21″ Staff, Fluorescent Pink

9905-00-NIB-0378—Flag, Marking, 2-½″ x 3-½″, 21″ Staff, Orange

9905-00-NIB-0379—Flag, Marking, 2-½″ x 3-½″, 21″ Staff, Red

9905-00-NIB-0380—Flag, Marking, 2-½″ x 3-½″, 21″ Staff, Yellow

9905-00-NIB-0384—Flag, Marking, 2-½″ x 3-½″, 15″ Staff, Yellow

9905-00-NIB-0386—Flag, Marking, 2-½″ x 3-½″, 15″ Staff, Red

9905-00-NIB-0387—Flag, Marking, 2-½″ x 3-½″, 15″ Staff, Orange

9905-00-NIB-0389—Flag, Marking, 4″ x 5″, 21″ Staff, Fluorescent Orange

9905-00-NIB-0390—Flag, Marking, 4″ x 5″ 21″ Staff, Fluorescent Pink

9905-00-NIB-0392—Flag, Marking, 4″ x 5″, 21″ Staff, Red

9905-00-NIB-0393—Flag, Marking, 4″ x 5″ 21″ Staff, Yellow

9905-00-NIB-0391—Flag, Marking, 4″ x 5″, 21″ Staff, Orange

Mandatory Source(s) of Supply: West Texas Lighthouse for the Blind, San Angelo, TX

Mandatory for: Total Government Requirement

Contracting Activity: General Services Administration, Fort Worth, TX

Distribution: B-List

Service

Service Type: Janitorial Service

Mandatory for: U.S. Department of Justice, Robert F. Kennedy Building, 950 Constitution Avenue NW., Washington, DC

Mandatory Source(s) of Supply: Melwood Horticultural Training Center, Upper Marlboro, MD

Contracting Activity: Dept of Justice, Offices, Boards and Divisions Washington, DC

Deletions

The following products are proposed for deletion from the Procurement List:

Products

NSN(s)—Product Name(s):

8415-01-503-0761—Shirt, Cold Weather 100 Weight Fleece, Army, Coyote Brown, S

8415-01-503-0762—Shirt, Cold Weather 100 Weight Fleece, Army, Coyote Brown, M

8415-01-503-0763—Shirt, Cold Weather 100 Weight Fleece, Army, Coyote Brown, L

8415-01-503-0766—Shirt, Cold Weather 100 Weight Fleece, Army, Coyote Brown, XL

Mandatory Source(s) of Supply: Peckham Vocational Industries, Inc., Lansing, MI

Contracting Activity: Defense Logistics Agency Troop Support

NSN(s)—Product Name(s):

7530-01-578-9300—Label, File Folder, Recycled, Laser and Inkjet, Assorted Color Stripes, 1 5/16″ x 3-7/16″

Mandatory Source(s) of Supply: North Central Sight Services, Inc., Williamsport, PA

Contracting Activity: General Services Administration, New York, NY

NSN(s)—Product Name(s):7510-01-519-4362—Binder, Round Ring, Clear Overlay, Pockets, Cinnamon, 1½″ Capacity, Letter Size

Mandatory Source(s) of Supply: South Texas Lighthouse for the Blind, Corpus Christi, TX

Contracting Activity: Department of Veterans Affairs, Strategic Acquisition Center General Services Administration, New York, NY

NSN(s)—Product Name(s):6645-01-467-8481—Clock, Wall, Black Custom Logo, 28″ Diameter

Mandatory Source(s) of Supply: Chicago Lighthouse Industries, Chicago, IL

Contracting Activity: General Services Administration, New York, NY

NSN(s)—Product Name(s):7520-01-094-4309—Tray, Desk, Plastic, Side Loading, Stackable, Legal, Black

Mandatory Source(s) of Supply: LC Industries, Inc., Durham, NC

Contracting Activity: General Services Administration, New York, NY

NSN(s)—Product Name(s):7930-01-513-9967—Cleaner, General, Disinfectant, Aerosol, 18 oz.

Mandatory Source(s) of Supply: The Lighthouse for the Blind, St. Louis, MO

Contracting Activity: General Services Administration, Fort Worth, TX

Barry S. Lineback,
Director, Business Operations.

[FR Doc. 2017-00675 Filed 1-12-17; 8:45 am]

BILLING CODE 6353-01-P